DEPARTMENT OF TRANSPORTATION

Federal Aviation Administration

Intent to Rule on Application 03-03-C-00-SBN to Impose and Use the Revenue From a Passenger Facility Charge (PFC) at South Bend Regional Airport, South Bend, Indiana

AGENCY: Federal Aviation Administration (FAA), DOT.

ACTION: Notice of intent to rule on application.

SUMMARY: The FAA proposes to rule and invites public comment on the application to impose and use the revenue from a PFC at South Bend Regional Airport under the provisions of the 49 U.S.C. 40117 and part 158 of the Federal Aviation Regulations (14 CFR part 158).

DATES: Comments must be received on or before January 6, 2003.

ADDRESSES: Comments on this application may be mailed or delivered in triplicate to the FAA at the following address: Federal Aviation Administration, Chicago Airports District Office, 2300 East Devon Avenue, Room 312, Des Plaines, Illinois 60018.

In addition, one copy of any comments submitted to the FAA must be mailed or delivered to Mr. John C. Schalliol, Executive Director, South Bend Regional Airport at the following address: South Bend Regional Airport, 4477 Progress Drive, South Bend, Indiana 46628.

Air carriers and foreign air carriers may submit copies of written comments previously provided to the South Bend Regional Airport under section 158.23 of part 158.

FOR FURTHER INFORMATION CONTACT: Mr. Gregory N. Sweeny, Program Manager, Chicago Airports District Office, 2300 East Devon Avenue, Room 312, Des Plaines, Illinois 60018, (847) 294-7526. The application may be reviewed in person at this same location.

SUPPLEMENTARY INFORMATION: The FAA proposes to rule and invites public comment on the application to impose and use the revenue from a PFC at South Bend Regional Airport under the provisions of the 49 U.S.C. 40117 and part 158 of the Federal Aviation Regulations (14 CFR part 158).

On November 12, 2002, the FAA determined that the application to impose and use the revenue from a PFC submitted by the St. Joseph County Airport authority was substantially complete within the requirements of section 158.25 of part 158. The FAA will approve or disapprove the application, in whole or in part, no later than February 25, 2003.

The following is a brief overview of the application.

Level of the proposed PFC: $3.00.

Proposed charge effective date: June 1, 2003.

Proposed charge expiration date: January 1, 2023.

Total estimated PFC revenue: $23,898,229.

Brief description of proposed projects: Land acquisition (for the relocation of Lincolnway West, extension of runway 18/36 and airport development); Lincolnway West Relocation. Class or classes of air carriers which the public agency has requested not be required to collect PFCs: part 135 air taxi operators operating with less than 15 seats.

Any person may inspect the application in person at the FAA office listed above under FOR FURTHER INFORMATION CONTACT.

In addition, any person may, upon request, inspect the application, notice and other documents germane to the application in person at the South Bend Regional Airport.

Issued in Des Planes, Illinois on November 21, 2002.
Mark McClardy,
Manager, Planning and Programming Branch, Airport Division, Great Lakes Region.

[FR Doc. 02-30846 Filed 12-4-02; 8:45 am]

BILLING CODE 4910-13-M